DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of September 1, 2019 through September 30, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i) (I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,882 | Harley-Davidson Motor Company Operations, Inc., Kansas City Vehicle and Powertrain Operations, etc | Kansas City, MO | June 5, 2017.
94,418 | Valente Global, Valente Solutions Division | Bellevue, WA | December 18, 2017.
94,447 | A.R.E. Manufacturing, Inc., Express Employment Professionals, Elwood Staffing Services, etc | Newberg, OR | January 8, 2018.
94,544 | Ardagh Glass Inc., Ardagh Holdings Ltd | Lincoln, IL | February 15, 2018.
94,766 | Clover Yarns, Inc., Clover Yarns Holdings, Inc., AmeriStaff Employment & Staffing Solutions | Clover, VA | April 29, 2018.
94,810 | Georgia-Pacific Wood Products LLC, Coos Bay Sawmill—Coos Bay, etc | Coos Bay, OR | May 13, 2018.
94,854 | Clarion Sintered Metals Inc | Ridgway, PA | May 29, 2018.
94,859 | Wood-Mode Incorporated | Kreamer, PA | May 29, 2018.
94,933 | Jernberg Industries, LLC, AAM Chicago Plant 1, AAM—American Axle & Manufacturing, etc | Chicago, IL | June 24, 2018.
94,939 | Emerging Acquisitions LLC, Bulk Handling Systems, Bulk Handling Systems Division | Eugene, OR | June 25, 2018.
94,960 | Sumitomo Electric Semiconductor Materials, Inc. (SESMI), Sumitomo Electric U.S.A. Holdings, Sumitomo Electric Industries, etc | Hillsboro, OR | July 1, 2018.
94,961 | TreeHouse Private Brands, Inc., TreeHouse Foods, Inc | Battle Creek, MI | July 1, 2018.
94,975 | Vesta Corporation, Secure Contact Solutions, Unosquare, Express Services, etc | Lake Oswego, OR | July 8, 2018.
95,038 | FreightCar, Roanoke LLC, FreightCar America, Luttrell Staffing, Workforce Unlimited, Lingo Staffing | Roanoke, VA | September 29, 2019.
95,098 | Profab Metal Products, Inc | Lynn, MA | June 24, 2018.
95,136 | Millennium Rail, LLC, Watco Companies, LLC | Hollidaysburg, PA | August 29, 2018.

The following certifications have been issued. The requirements of Section 222(a)(2)(B) (Shift in Production or Services to a Foreign Country Path or Acquisition of Articles or Services from a Foreign Country Path) of the Trade Act have been met.

TA-W No. | Subject firm | Location | Impact date
94,217 | Windstream Services, LLC, IT Services, Tapfin, AIC/Comforce | Richmond, VA | October 5, 2017.
94,397 | Faurecia Emissions Control Technologies USA, LLC, Clean Mobility Division, Express Employment Professionals, Manpower | Dexter, MO | November 15, 2017.
94,619 | Connexions Loyalty Travel Solution, Connexions Loyalty division, Affinion Group, Aerotek | Boise, ID | March 11, 2018.
94,641 | CDI Corporation, CDI WV Shared Service Center | Cross Lanes, WV | March 18, 2018.
94,674 | LSC Communications US, LLC, TOPS Products Division, Elwood Staffing, Kelly Services | St. George, UT | March 28, 2018.
94,718 | HSBC Technology Services, USA (HTSU), Global Risk Analytics Unit, HSBC North America Holdings Inc | Arlington Heights, IL | April 10, 2018.
94,718A | HSBC Technology Services, USA (HTSU), Global Risk Analytics Unit, HSBC North America Holdings Inc | Buffalo, NY | April 10, 2018.
94,773 | Citicorp Credit Services, Inc. (USA), Global Workforce Optimization, Real Time Management Division | Irving, TX | May 1, 2018.
94,840 | Lufkin Industries, LLC, Corporate Office, Baker Hughes, GE Company | Lufkin, TX | May 23, 2018.
94,850 | Geometric Americas, Inc., HCL Americas Inc., Palaj Packaging LLC | Troy, MI | May 24, 2018.
94,858 | Teck Washington Incorporated, Pend Oreille Operations, 7 Seasons, Redpath | Metaline Falls, WA | May 29, 2018.
94,868 | SAP America, SAP Sybase, Inc | Burlington, MA | June 4, 2018.
94,884 | TTM Technologies, Inc., C & C (Communications & Computing) Division, Kelly Services, Manpower | Chippewa Falls, WI | June 7, 2018.
94,892 | Seagate Technology, Manpower | Valencia, CA | June 11, 2018.
94,893 | U.S. Bank National Association, Consumer & Business Banking Operations Unit, Lien Release Division, etc | Irvine, CA | June 11, 2018.
94,902 | Symantec Corporation, Akraya, Atrilogy Solutions Group, Central Business Solutions, etc | Mountain View, CA | May 23, 2018.
94,902A | Symantec Corporation, Akraya, Atrilogy Solutions Group, Central Business Solutions, etc | Culver City, CA | May 23, 2018.
94,902B | Symantec Corporation, Akraya, Atrilogy Solutions Group, Central Business Solutions, etc | San Francisco, CA | May 23, 2018.
94,902C | Symantec Corporation, Akraya, Atrilogy Solutions Group, Central Business Solutions, etc | San Diego, CA | May 23, 2018.
94,918 | Commemorative Brands Inc., American Achievement Corporation | Austin, TX | August 2, 2019.
94,941 | Delta Air Lines Inc., Information Technology Infrastructure & Liability, etc | Atlanta, GA | June 25, 2018.
94,941A | Delta Air Lines Inc., Information Technology Infrastructure & Liability, etc | Eagan, MN | June 25, 2018.
94,942 | Cisco Systems, Inc., Payroll Department | San Jose, CA | June 25, 2018.
94,951 | The Bank of New York Mellon, Global Custody and Cash Services, The Bank of New York Mellon Corporation | East Syracuse, NY | June 27, 2018.
94,951A | The Bank of New York Mellon, Global Custody and Cash Services, The Bank of New York Mellon, etc | Pittsburgh, PA | June 27, 2018.
94,966 | IBM, Global Business Services | Milwaukee, WI | June 28, 2018.
94,978 | Tramontina USA, Inc., Randstad | Sugar Land, TX | July 9, 2018.
94,978A | Tramontina US Cookware, Inc., Tramontina USA, QPS Employment Group, IQ Resource Group, etc | Manitowoc, WI | July 9, 2018.
94,987 | Blossom Clothing Inc | Los Angeles, CA | July 12, 2018.
94,989 | Providence Health & Services-Washington, Supply Chain Management, Kelly Services, Vincent Benjamin, KFORCE, etc | Torrance, CA | July 12, 2018.
94,989A | Providence Health & Services-Washington, Supply Chain Management, Kelly Services, Vincent Benjamin, KFORCE, etc | Burbank, CA | July 12, 2018.
94,989B | Mission Hospital Regional Medical Center, Finance, St. Joseph Health System, Kelly Services, Vincent Benjamin, etc | Mission Viejo, CA | July 12, 2018.
94,989C | St. Joseph Health Northern California, LLC, Finance, St. Joseph Health System, Kelly Services, Vincent Benjamin, etc | Napa, CA | July 12, 2018.
94,989D | St. Joseph Health Northern California, LLC, Finance, St. Joseph Health System, Kelly Services, Vincent Benjamin, etc | Santa Rosa, CA | July 12, 2018.
94,989E | St. Joseph Health System, Finance, Kelly Services, Vincent Benjamin, KFORCE, Nuwest, etc | Irvine, CA | July 12, 2018.
94,989F | St. Joseph Health System, Supply Chain Management, Kelly Services, Vincent Benjamin, KFORCE, etc | Irvine, CA | July 12, 2018.
94,989G | St. Joseph Heritage Health Care, Finance, St. Joseph Health System, Kelly Services, Vincent Benjamin, etc | Irvine, CA | July 12, 2018.
94,989H | St. Joseph Hospital, Orange, Finance, St. Joseph Health System, Kelly Services, Vincent Benjamin, etc | Orange, CA | July 12, 2018.
94,989I | St. Jude Medical Center, Finance, St. Joseph Health System, Kelly Services, Vincent Benjamin, etc | Fullerton, CA | July 12, 2018.
94,989J | St. Mary Medical Center, Finance, St. Joseph Health System, Kelly Services, Vincent Benjamin, etc | Apple Valley, CA | July 12, 2018.
94,993 | ET Publishing International LLC, Televisa S.A. De C.V | Miami, FL | July 15, 2018.
94,996 | Navico, Inc., Nanna U.S. BidCo LLC | Minneapolis, MN | July 15, 2018.
94,998 | State Street Corporation, USIS Insurance Services Division | Kansas City, MO | July 16, 2018.
95,001 | Felchar Manufacturing, Shop Vac Corporation, Eastern Temporaries, 191 Corporate Drive | Binghamton, NY | July 17, 2018.
95,001A | Felchar Manufacturing, Shop Vac Corporation, Eastern Temporaries, 196 Corporate Drive | Binghamton, NY | September 29, 2019.
95,001B | Felchar Manufacturing, Shop Vac Corporation, Eastern Temporaries, 47-51 Pine Camp Drive | Binghamton, NY | September 29, 2019.
95,001C | Staffworks, Felchar Manufacturing, Shop Vac Corporation, 191 Corporate Drive, etc | Binghamton, NY | July 17, 2018.
95,004 | Providence Health & Services-Washington, Supply Chain Management, Accounting Principals, Accountemps, Southgate I | Renton, WA | July 18, 2018.
95,004A | Providence Health & Services-Washington, Supply Chain Management, Finance, Accounting Principals, Accountemps, etc | Renton, WA | July 18, 2018.
95,004B | Providence Health & Services-Washington, Finance, Accounting Principals, Accountemps, Valley Office Park | Renton, WA | July 18, 2018.
95,004C | Providence Health & Services-Washington, Supply Chain Management, Accounting Principals, Accountemps, etc | Spokane, WA | July 18, 2018.
95,004D | Providence Health & Services-Washington, Supply Chain Management, Accounting Principals, Accountemps, etc | Spokane, WA | July 18, 2018.
95,004E | Providence Health & Services-Washington, Supply Chain Management, Finance, Accounting Principals, Accountemps, etc | Anchorage, AK | July 18, 2018.
95,009 | The Worth Collection, Ltd., Oasis Outsourcing | New York, NY | June 20, 2018.
95,014 | Delphi Technologies Services, LLC, Technical Center Rochester, Delphi Powertrain Systems Luxembourg Sarl, etc | West Henrietta, NY | July 21, 2018.
95,015 | MediaKind, MK Systems USA, Ericsson Media Solutions, BMDA Media TV Platforms, etc | Santa Clara, CA | July 24, 2018.
95,024 | AT&amp;T Business-Global Operations & Services, Delivery Excellence/Global Product Ordering, AT&T Services, AT&T Inc | Brecksville, OH | July 30, 2018.
95,027 | KCI USA, Inc., San Antonio Advantage Center, KCI Licensing, Inc., Aerotek | San Antonio, TX | July 30, 2018.
95,027A | KCI USA, Inc., Charlotte Advantage Center, KCI Licensing, Inc., Aerotek | Charlotte, NC | July 30, 2018.
95,040 | Mondi Bags USA, LLC, Mondi Bags GMBH, Express Employment Services | Pine Bluff, AR | August 1, 2018.
95,041 | Newell Brands, Rubbermaid Commercial Products, Life Style Staffing | Winchester, VA | August 1, 2018.
95,046 | Aluwind, Inc., Alumeco A/S | Castle Rock, CO | August 6, 2018.
95,051 | Alo Tennessee Inc. and Alo USA, Inc., Alo AB, Luttrell Staffing Group, Randstad USA, etc | Telford, TN | August 7, 2018.
95,055 | LEDVANCE LLC, Manpower Inc., Connected Systems Partners | Wilmington, MA | August 7, 2018.
95,056 | Workforce Logiq | Dallas, TX | August 7, 2018.
95,063 | Consolidated Metco, Inc., Bryson City Plant, Amsted Industries Incorporated | Bryson City, NC | June 23, 2019.
95,063A | Adecco Staffing, Consolidated Metco, Inc., Bryson City Plant, Amsted Industries Incorporated | Bryson City, NC | August 12, 2018.
95,067 | Liberty Mutual Insurance Company, Claims Subrogation, Liberty Mutual Group, LMHC Massachusetts Holdings, etc | Allentown, PA | August 12, 2018.
95,069 | Newell Brands (Sunbeam Products, Inc.), Customer Care Lines, Newell Brands, Onin Temporary Services | McMinnville, TN | August 12, 2018.
95,079 | La-Z-Boy Inc., Residential Division | Newton, MS | August 15, 2018.
95,082 | S7 Sea Launch Limited, S7 Space Transportation Systems | Long Beach, CA | August 15, 2018.
95,085 | Schneider Electric IT USA, Inc., Secure Power: 3Phase UPS Division, Schneider Electric | Costa Mesa, CA | August 16, 2018.
95,086 | Teletrac Navman, Technical Support Team, Fortive Corporation, AppleOne Employment, Adecco | Garden Grove, CA | August 16, 2018.
95,088 | Web.com Group, Inc., Finance Department, Siris Capital Group, LLC | Jacksonville, FL | August 16, 2018.
95,092 | Littelfuse Inc | Orange, CA | August 16, 2018.
95,102 | Karcher North America, Alfred Karcher Holdings, Inc., Office Team, CDW LLC, NW Staffing Group | Camas, WA | August 20, 2018.
95,111 | TE Connectivity, Industrial & Commercial Transportation, Select Staffing | Hemet, CA | August 22, 2018.
95,114 | Newell Brands, Consumer Services Team, United Personnel | South Deerfield, MA | August 22, 2018.
95,123 | GP Strategies, IT Help Desk | Columbia, MD | August 26, 2018.
95,127 | Conifer Revenue Cycle Solutions, LLC, Conifer Health Solutions, LLC | Des Moines, IA | August 27, 2018.
95,128 | CSG Systems, Inc., CSG Systems International, Inc | Greenwood Village, CO | August 27, 2018.
95,128A | CSG Systems, Inc., CSG Systems International, Inc | Englewood, CO | August 27, 2018.
95,137 | ADP Technology Services, Inc., Automatic Data Processing, Inc | Owings Mills, MD | August 30, 2018.
95,144 | Tokio Marine Management, LLC, Data Automation, Ultimate Staffing, People 2.0 North America, etc | Pasadena, CA | September 3, 2018.
95,161 | Excelitas Technologies, Aerotek, A+Search, Richmar | Fremont, CA | September 9, 2018.
95,165 | Triumph Composites Systems, Inc., A Division of Triumph Group | Spokane, WA | March 15, 2019.
95,166 | United Parcel Service General Service Company, United Parcel Service of America Inc., TAPFIN Manpower | Coppell, TX | September 9, 2018.
95,168 | Bayer U.S. LLC, Belcan Tech Services, Computer Task Group, US Tech Solutions, YOH, etc | Mishawaka, IN | September 10, 2018.
95,177 | Signify | Tupelo, MS | September 11, 2018.

The following certifications have been issued. The requirements of Section 222(b) (supplier to a firm whose workers are certified eligible to apply for TAA) of the Trade Act have been met.

TA-W No. | Subject firm | Location | Impact date
94,782 | OMNOVA Solutions Inc., ABR Employment Services | Green Bay, WI | May 3, 2018.
95,060 | Seneca Foods LLC, Seneca Foods Corporation | Sunnyside, WA | August 9, 2018.

The following certifications have been issued. The requirements of Section 222(b) (downstream producer to a firm whose workers are certified eligible to apply for TAA) of the Trade Act have been met.

TA-W No. | Subject firm | Location | Impact date
94,956 | Elcam, Inc., LEDVANCE Department | St. Marys, PA | June 28, 2018.

The following certifications have been issued. The requirements of Section 222(e) (firms identified by the International Trade Commission) of the Trade Act have been met.

TA-W No. | Subject firm | Location | Impact date
95,094 | Cambria Company LLC | Le Sueur, MN | July 5, 2018.
95,133 | Artelye Inc. | Beltsville, MD | July 5, 2018.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
94,217B | Windstream Services, LLC, CLEC Operations, Enterprise Business Unit, Tapfin, AIC/Comforce | Richmond, VA
94,217C | Windstream Services, LLC, Enterprise Access, Enterprise Business Unit, Tapfin, AIC/Comforce | Richmond, VA

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,141 | Formosa Plastics Corporation, Formosa Plastics Corporation U.S.A., Specialty PVC Division | Delaware City, DE
94,597 | FCA US LLC, Belvidere Assembly Plant | Belvidere, IL
95,049 | Linear AMS, Minute Men, Advanced Staffing | Livonia, MI

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,887 | Advanced Business Teleservices | Talent, OR
94,110 | Atos IT Solutions & Services Inc., Mobile Device Management Team, Zero Chaos | Irving, TX
94,217A | Windstream Services, LLC, Enterprise Care and Repair Center, Enterprise Business, Tapfin, etc | Richmond, VA
94,375 | JPMorgan Chase Bank, N.A., Storage Refresh, Global Technology Infrastructure, JPMorgan Chase & Co | Jersey City, NJ
94,467 | Kmart Distribution Center, Transport Corporation of America, Heartland Express, Swift Transportation | Warren, OH
94,490 | Medtronic PLC, Kelly Services Inc., Midlance, On Assignment Staffing Services | Plainfield, IN
94,519 | N & L Enterprises, Call Center | Winchester, VA
94,529 | LSC Communications Printing Company, Staffmark, Kelly Services | Lynchburg, VA
94,591 | Dakkota Integrated Systems, LLC, Cardinal Staffing, Malone Staffing, Manpower | Brownstown, MI
94,625 | KGP Telecommunications, LLC, KGPCo, Staffmark, Express Employment Professionals, 2000 West Winona Avenue | Warsaw, IN
94,625A | KGP Telecommunications, LLC, KGPCo, Staffmark, Express Employment Professionals, 3454 North Detroit St | Warsaw, IN
94,639 | Adair Printing Co., Inc., Adair Payroll Services, Trillium Staffing | Standish, MI
94,689 | Philly Shipyard, Inc., Philly Shipyard ASA, HKA Enterprises LLC | Philadelphia, PA
94,742 | Hearst Media Services Connecticut LLC, Newspaper Division, Hearst Communications Inc | Norwalk, CT
94,743 | Logic Solutions Inc., Logic Dental Solutions | Lakewood, CO
94,745 | ReEnergy Fort Fairfield LLC, ReEnergy Biomass Operations LLC | Fort Fairfield, ME
94,745A | ReEnergy Ashland LLC, ReEnergy Biomass Operations LLC | Ashland, ME
94,778 | Motor Castings Company, Dalton Foundry Corporation, KD Staffing | West Allis, WI
94,827 | Alorica, Inc., Information Technology (IT), Human Resources (HR) | Irvine, CA
94,827A | Alorica, Inc., Information Technology (IT), Human Resources (HR), etc | St. Joseph, MO
94,832 | Classic American Hardwoods, Inc | Memphis, TN
94,877 | IBM, GBS (Global Business Services) Division | Coppell, TX
94,905 | Cameron Technologies US, Inc., Guidant Global | Duncan, OK
94,912 | Halliburton Energy Services, Inc | Duncan, OK
94,913 | Printing Inc. an RR Donnelley Company, Commercial Division | Wichita, KS
94,922 | Oak Valley, Inc., Headquarters Facility | Marion, NC
94,922A | Oak Valley, Inc., Robbinsville Facility | Robbinsville, NC
94,924 | KapStone Container Corporation, WestRock Company | Amsterdam, NY
94,928 | Intel Americas, Intel Corporation, Data Center Group, Kelly Temporary Services, etc | Eau Claire, WI
94,930 | Trouw Nutrition USA LLC, Anchor USA, Westaff, Employment Plus | Willmar, MN
94,950 | AT&T Business—Global Operations & Services, Piscataway Delivery Excellence Team, etc | Piscataway, NJ
94,969 | Volt Workforce Solutions, Volt Customer Care Solutions (VCCS) | Las Cruces, NM
94,992 | CoreLogic Solutions, LLC, CoreLogic Valuation Services, Aerotek, AppleOne, Fox-1 Resources, etc | Bloomington, MN
95,007 | Union Pacific Railroad, Hinkle Yard, Union Pacific Corporation | Hermiston, OR
95,007A | Union Pacific Railroad, Supply Warehouse and Locomotive Shop, Union Pacific Corporation | Hermiston, OR
95,016 | Burke Industries (Delaware), LLC, Mannington Mills, Inc., Kelly Services | San Jose, CA
95,065 | Futurewei Technologies, Inc., Huawei Technologies, Seattle Research Center, Workforce Logiq, etc | Bellevue, WA
95,065A | Futurewei Technologies, Inc., Huawei Technologies, New Jersey Research Center, Workforce Logiq, etc | Bridgewater, NJ
95,065B | Futurewei Technologies, Inc., Huawei Technologies, Phoenix Office, Workforce Logiq, Experis, Wipro, etc | Chandler, AZ
95,065C | Futurewei Technologies, Inc., Huawei Technologies, Greensboro Office, Workforce Logiq, Experis, etc | Greensboro, NC
95,065D | Futurewei Technologies, Inc., Huawei Technologies, Louisville Office, Workforce Logiq, Experis, etc | Louisville, CO
95,065E | Futurewei Technologies, Inc., Huawei Technologies, Mountain View Office, Workforce Logiq, Experis, etc | Mountain View, CA
95,065F | Futurewei Technologies, Inc., Huawei Technologies, San Diego Research Center, Workforce Logiq, etc | San Diego, CA
95,065G | Futurewei Technologies, Inc., Huawei Technologies, San Francisco Office, Workforce Logiq, Experis, etc | San Francisco, CA
95,065H | Futurewei Technologies, Inc., Huawei Technologies, Dallas Research Center, Workforce Logiq, Experis, etc | Plano, TX
95,065I | Futurewei Technologies, Inc., Huawei Technologies, Rolling Meadows Office, Workforce Logiq, Experis, etc | Rolling Meadows, IL
95,146 | Optum Care, Inc., ProHealth Physicians Division, UnitedHealth Group | Farmington, CT. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,769 | U.S. Bank, Portland Columbia Center | Portland, OR |
95,089 | Bank of Montreal | New York, NY |
95,097 | Logic PD | Montevideo, MN |

The following determinations terminating investigations were issued in cases where the petition regarding the investigation has been deemed invalid.

TA-W No. | Subject firm | Location | Impact date
94,672 | Outsource Management Services, Negotiations Department (AKA DR Processing Department) | Costa Mesa, CA |
94,931 | Artech | Morristown, NJ |
94,977 | Schwebels Baking Company | Youngstown, OH |
95,059 | JPMorgan Chase Bank, NA | Columbus, OH |
95,083 | TE Connectivity | Berwyn, PA |

The following determinations terminating investigations were issued because the worker group on whose behalf the petition was filed is covered under an existing certification.

TA-W No. | Subject firm | Location | Impact date
94,904 | AARCO, IKEA Industry Danville LLC | Ringgold, VA |
94,936 | R1 RCM Inc., Accretive Health, Inc. | Austin, TX |
94,967 | Providence Medford Medical Center | Medford, OR |
95,019 | Safway, REC Solar Grade Silicon LLC, REC Silicon Inc. | Moses Lake, WA |
95,030 | Catalina Marketing Corporation, Media Services division, PDM Group Holding Corporation | St. Louis, MO |
95,075 | Schneider Electric | Peru, IN |
95,084 | Kelly Services, Inc., Hanesbrands, Inc., Long-Fold Women's Hosiery | Clarksville, AR |
95,091 | Kimberly-Clark Corporation, Fullerton-Tissue division | Fullerton, CA |

I hereby certify that the aforementioned determinations were issued during the period of September 1, 2019 through September 30, 2019. These determinations are available on the Department's website https://www.doleta.gov/tradeact/petitioners/taa_search_form.cfm under the searchable listing determinations or by calling the Office of Trade Adjustment Assistance toll free at 888-365-6822.

Signed at Washington DC this 9th day of October 2019.
Hope D. Kinglock,
Certifying Officer, Office of Trade Adjustment Assistance.

[FR Doc. 2019-23454 Filed 10-25-19; 8:45 am]

BILLING CODE 4510-FN-P